Proclamation 7707 of September 18, 2003

National POW/MIA Recognition Day, 2003

By the President of the United States of America

A Proclamation

The sacrifice and service of America's veterans, including those who became prisoners of war or who went missing in action, have preserved freedom for America and brought freedom to millions around the world. On National POW/MIA Recognition Day, we honor the extraordinary courage of the Americans who have been prisoners of war, and we pray for those who are still missing in action and unaccounted for. This Nation also remembers the challenges and heartache endured by the families of prisoners of war and missing in action. We seek answers for the families of those who are still missing, and we will not rest until we have a full accounting.

To mark this important day, on September 19, 2003, the flag of the National League of Families of American Prisoners and Missing in Southeast Asia will again be flown over the White House, the Capitol, the Departments of State, Defense, and Veterans Affairs, the Selective Service System Headquarters, the National Vietnam Veterans and Korean War Veterans Memorials, U.S. military installations, national cemeteries, and other locations across our country. We raise this flag as a reminder and a promise. The black-and-white flag is a symbol that these missing Americans will not be forgotten, and is flown as a testament to our Government's unwavering commitment to pursue the fullest possible accounting for all our missing in action service members.

NOW, THEREFORE, I, GEORGE W. BUSH, President of the United States of America, by virtue of the authority vested in me by the Constitution and laws of the United States, do hereby proclaim September 19, 2003, as National POW/MIA Recognition Day. I call upon the people of the United States to join me in saluting all American POWs who valiantly served this great country. I call upon Federal, State, and local government officials and private organizations to observe this day with appropriate ceremonies and activities.

IN WITNESS WHEREOF, I have hereunto set my hand this eighteenth day of September, in the year of our Lord two thousand three, and of the Independence of the United States of America the two hundred and twenty-eighth.

B

[FR Doc. 03-24219

Filed 9-22-03; 11:38 am]

Billing code 3195-01-P